DEPARTMENT OF TRANSPORTATION

Federal Railroad Administration

[Docket No. FRA-2007-27059, Notice No. 1]

Establishment of an Emergency Relief Docket for Calendar Year 2007

AGENCY: Federal Railroad Administration (FRA), DOT.

ACTION: Notice of establishment of public docket.

SUMMARY: On August 30, 2006, FRA published an Interim Final Rule (IFR) addressing the establishment of emergency relief dockets (ERD) and the procedures for handling petitions for emergency waivers of safety regulations. 71 FR 51517. The IFR provided that each year, FRA will establish an ERD for that year and publish a notice in the Federal Register identifying the docket number of the ERD for that year. This Notice announces the establishment of FRA's ERD for the current year (calendar year 2007). The designated ERD for calendar year 2007 is docket number FRA-2007-27059.

ADDRESSES: See Supplementary Information section for further information regarding submitting petitions and/or comments to Docket No. FRA-2007-27059.

SUPPLEMENTARY INFORMATION: On August 30, 2006, FRA published an IFR addressing the establishment of ERD and the procedures for handling petitions for emergency waivers of safety rules, regulations, or standards during an emergency situation or event. 71 FR 51517. As noted in the IFR, FRA's purpose for establishing the ERD and emergency waiver procedures is to provide an expedited process for FRA to address the needs of the public and the railroad industry during emergency situations or events. The IFR added § 211.45 to Subpart C of 49 CFR part 211 (49 CFR 211.45). Section 211.45(b) provides that each calendar year FRA will establish an ERD in the publicly accessible DOT Document Management System (DMS) and that FRA will publish a notice in the Federal Register identifying by docket number the ERD for that year. This Notice No. 1 announces that the designated ERD for calendar year 2007 is docket number FRA-2007-27059.

As detailed in the IFR, if the FRA Administrator determines that an emergency event as defined in 49 CFR 211.45(a) has occurred, or that an imminent threat of such an emergency occurring exists, and public safety would benefit from providing the railroad industry with operational relief, the emergency waiver procedures of 49 CFR 211.45 will go into effect. 70 FR 51518. In such an event, the FRA Administrator will issue a statement in the ERD indicating that the emergency waiver procedures are in effect and FRA will make every effort to post the statement on its Web site http://www.fra.dot.gov/. In addition, FRA will publish a notice in the Federal Register alerting interested parties that the emergency waiver procedures will be utilized. Any party desiring relief from FRA regulatory requirements as a result of the emergency situation should submit a petition for emergency waiver in accordance with 49 CFR 211.45(e) and (f). Specific instructions for filing petitions for emergency waivers in accordance with 49 CFR 211.45 are found at 49 CFR 211.45(f). Specific instructions for filing comments in response to petitions for emergency waivers are found at 49 CFR 211.45(h).

Privacy

Anyone is able to search all comments received into any of our dockets by the name of the individual submitting the comment (or signing the comment, if submitted on behalf of an association, business, labor union, etc.). You may review DOT's complete Privacy Act Statement in the Federal Register published on April 11, 2000 (Volume 665, Number 7, Pages 19477-78). The statement may also be found at http://dms.dot.gov.

Issued in Washington, DC on February 7, 2007.
Grady C. Cothen, Jr.,
Deputy Associate Administrator for Safety Standards and Program Development.

[FR Doc. E7-2401 Filed 2-12-07; 8:45 am]

BILLING CODE 4910-06-P